FEDERAL COMMUNICATIONS COMMISSION

[FR ID 178915]

Radio Broadcasting Services; AM or FM Proposals To Change the Community of License

AGENCY: Federal Communications Commission.

ACTION: Notice.

DATES: The agency must receive comments on or before December 19, 2023.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: EDUCATIONAL MEDIA FOUNDATION, KAZK(FM), FAC. ID NO. 176305, FROM: WILLCOX, AZ, TO: CATALINA, AZ, FILE NO. 0000219614; MICHAEL RADIO COMPANY, LLC, KLLM(FM), FAC. ID NO. 762455, FROM: WHEATLAND, WY, TO: HORSE CREEK, WY, FILE NO. 0000205045; COCHISE BROADCASTING LLC, KXKR(FM), FAC. ID NO. 2185, FROM: CATALINA FOOTHILLS, AZ, TO: SOUTH TUCSON, AZ, FILE NO. 0000219669; FAMILY LIFE MINISTRIES, INC, WCOI(FM), FAC. ID NO. 768403, FROM: ELLICOTTVILLE, NY, FRANKLINVILLE, NY, FILE NO. 0000219900; AND AMERICAN EDUCATION FOUNDATION, INC., WMNK(FM), FAC. ID NO. 177028, FROM: MINOOKA, IL, TO: SHERIDAN, IL, FILE NO. 0000219024. The full text of these applications is available electronically via Licensing and Management System (LMS), https://apps2int.fcc.gov/dataentry/public/tv/publicAppSearch.html.

Federal Communications Commission.
Nazifa Sawez,
Assistant Chief, Audio Division, Media Bureau.

[FR Doc. 2023-23121 Filed 10-19-23; 8:45 am]

BILLING CODE 6712-01-P